DEPARTMENT OF COMMERCE

National Oceanic and Atmospheric Administration

[Docket No. 080415567-8568-01]

FY 2008 Broad Agency Announcement

AGENCY: National Oceanic and Atmospheric Administration (NOAA), Commerce.

ACTION: Notice of funding availability.

SUMMARY: The purpose of this notice is to request proposals for special projects and programs associated with the Agency's strategic plan and mission goals, as well as to provide the general public with information and guidelines on how NOAA will select proposals and administer discretionary Federal assistance under this BAA. This BAA is a mechanism to encourage research, education and outreach, innovative projects, or sponsorships that are not addressed through our competitive discretionary programs. It is not a mechanism for awarding Congressionally directed funds. Funding for potential projects in this notice is contingent upon the availability of Fiscal Year 2008 and Fiscal Year 2009 appropriations. Applicants are hereby given notice that funds have not yet been appropriated for any proposed activities in this notice. Publication of this announcement does not oblige NOAA to review an application beyond an initial administrative review, or to award any specific project, or to obligate any available funds.

DATES: Full applications can be submitted on a rolling basis starting April 22, 2008, up to 5 PM Eastern Daylight Time September 30, 2009. Applications received after this time will not be reviewed or considered for funding.

ADDRESSES: Applications are available through grants.gov, and can be searched for using Funding Opportunity Number NFA-NFA-2008-2001388. For those applicants without internet access, application forms can be acquired by contacting the individuals listed under the FOR FURTHER INFORMATION CONTACT section.

FOR FURTHER INFORMATION CONTACT:

National Environmental Satellite Data Information Service (NESDIS)

Ingrid Guch

301-763-8282

Hqtr. Route: E/RA1

Bldg: WWBG RM: 701

5200 Auth RD

Camp Springs MD 20746-4304

National Marine Fisheries Service (NMFS)

JoAnna Grable

301-713-1364

Hqtr. Route: F/MB2

Bldg: SSMC3 Rm: 14359

1315 East-West Hwy

Silver Spring, MD 20910-3282

National Ocean Service (NOS)

Jane Piercy

301-713-3050

Hqtr. Route: N/MB3

Bldg: SSMC4 Rm: 13250

1305 East-West Hwy

Silver Spring MD 20910-3281

National Weather Service (NWS)

Youngnan Cohan

301-713-0420

NWS Hqtr Route: W/CFO2

Bldg: SSMC2 Rm: 18394

1325 East-West Hwy

Silver Spring MD 20910

Office of Atmospheric Research (OAR)

Sharon Schroeder

301-713-2474

Hqrt. Route: R/OM61

Bldg: SSMC3 Rm: 11464

1315 East-West Hwy

Silver Spring MD 20910-3282

NOAA Office of Education (OED)

Sarah Schoedinger

704-370-3528

Bldg: HCHB Room: 6863

1401 Constitution Ave., NW

Washington DC 20230-0001

SUPPLEMENTARY INFORMATION: The purpose of this notice is to request proposals for special projects and programs associated with the Agency's strategic plan and mission goals, as well as to provide the public with information and guidelines on how NOAA will select proposals and administer discretionary Federal assistance under this BAA. This BAA is a mechanism to encourage research, education and outreach, innovative projects, or sponsorships that are not normally funded through our competitive discretionary programs. It is not a mechanism to award Congressionally directed funds.

ELECTRONIC ACCESS: The full text of the full funding opportunity announcement for this program can be accessed via the Grants.gov web site at http://www.grants.gov. The announcement will also be available by contacting the program officials identified under FOR FURTHER INFORMATION CONTACT. Applicants must comply with all requirements contained in the full funding opportunity announcement.

STATUTORY AUTHORITY: The specific program authority will vary depending on the nature of the proposed project. A list of the most prevalent assistance authorities are 15 U.S.C. 1540; 15 U.S.C. 2901 et seq.; 16 U.S.C. 661; 16 U.S.C. 1456c; 33 U.S.C. 883a-d; 33 U.S.C. 893a(a); 33 U.S.C. 1442; 49 U.S.C. 44720(b).

CFDA NUMBER: Multiple CFDA Numbers. The CFDA numbers can be found in the Full Funding Opportunity.

FUNDING AVAILABILITY: There are no funds specifically appropriated by Congress for this BAA. Funding for potential projects in this notice is contingent upon the availability of Fiscal Year 2008, Fiscal Year 2009 and Fiscal Year 2010 appropriations. Applicants are hereby given notice that funds have not yet been appropriated for any proposed activities in this notice. Publication of this announcement does not oblige NOAA to review an application beyond an initial administrative review, award any specific project, or obligate any available funds.

ELIGIBILITY: Eligible applicants may be institutions of higher education, nonprofits, commercial organizations, international or foreign organizations or governments, individuals, state, local and Indian tribal governments. Eligibility also depends on the statutory authority that permits NOAA to fund the proposed activity. Refer to the CFDA in order to determine an applicant's eligibility.

COST SHARING REQUIREMENTS: Cost sharing is not required unless it is determined that a project can only be funded under an authority that requires matching/cost sharing funds.

EVALUATION AND SELECTION PROCEDURES: The general evaluation criteria and selection factors that apply to full applications to this funding opportunity are summarized below. The evaluation criteria for full applications will have different weights and details. Further information about the evaluation criteria and selection factors can be found in the full funding opportunity announcement.

EVALUATION CRITERIA FOR PROJECTS: NOAA has standardized evaluation criteria for all competitive assistance announcements. The criteria for this BAA are listed below. Since proposals responding to this BAA may vary significantly in their activities/objectives, assigning a set weight for each evaluation criterion is not feasible but is based on a total possible score of 100. The Program Office and/or Selection Official will determine which of the following criteria and weights will be applied. Some proposals, for example sponsorships, may not be able to address all the criteria like technical/scientific merit. However, it is in your best interest to prepare a proposal that can be easily evaluated against these five criteria.

1. Importance and/or relevance and applicability of proposed project to the mission goals: This ascertains whether there is intrinsic value in the proposed work and/or relevance to NOAA, federal, regional, state, or local activities: i.e., How does the proposed activity enhance NOAA's strategic plan and mission goals? Proposals should also address significance/possibilities of securing productive results, i.e., Does this study address an important problem?; If the aims of the application are achieved, how will scientific knowledge be advanced?; What will be the effect of these studies on the concepts or methods that drive this field?; What effect will the project have on improving public understanding of the role the ocean, coasts, and atmosphere in the global ecosystem? Proposals may also be scored for innovation, i.e., Does the project employ novel concepts, approaches or methods? Are the aims original and innovative? Does the project challenge existing paradigms or develop new methodologies or technologies?

2. Technical/scientific merit: This assesses whether the approach is technically sound and if the methods are appropriate, and whether there are clear project goals and objectives. Proposals should address the approach/soundness of design: i.e., Are the conceptual framework, design, methods, and analyses adequately developed, well-integrated, and appropriate to the aims of the project? Does the applicant acknowledge potential problem areas and consider alternative tactics? This criterion should also address the applicants proposed methods for monitoring, measuring, and evaluating the success or failure of the project, i.e., What are they? Are they appropriate?

3. Overall qualifications of applicants: This ascertains whether the applicant possesses the necessary education, experience, training, facilities, and administrative resources to accomplish the project. If appropriate, proposals should also address the physical environment and collaboration, if any, i.e., Does the environment in which the work will be done contribute to the probability of success? Do the proposed experiments or activities take advantage of unique features of the intended environment or employ useful collaborative arrangements?

4. Project costs: The Budget is evaluated to determine if it is realistic and commensurate with the project needs and time-frame.

5. Outreach and education: NOAA assesses whether this project provides a focused and effective education and outreach strategy regarding NOAA's mission to protect the Nations environmental resources. For example, how will the outcomes of the project be communicated to NOAA and the interested public to ensure it has met the project objectives over the short, medium or long term? Does the project address any of the goals or employ any of the strategies of the NOAA Education Plan (http://www.oesd.noaa.gov/NOAA_Ed_Plan.pdf)?

REVIEW AND SELECTION PROCESS: Upon receipt of a full application by NOAA, an initial administrative review will be conducted to determine eligibility for award, compliance with requirements and completeness of the application. This review includes determining whether:

1. Sufficient funds are available in the budget of the program office receiving the application to support the proposed project;

2. Statutory authority exists to provide financial assistance for the project or organization;

3. A complete application package has been submitted;

4. The Project Description/Narrative is consistent with one or more of NOAA's mission goals; and,

5. The proposal falls within the scope of an existing NOAA competitive announcement (Federal Register Notices can be found at www.Grants.gov to find recent competitive announcements) or duplicates an existing nondiscretionary project announced or awarded in FY08, FY09 or FY10 (if it does, it cannot be funded under this announcement); and,

6. The work in the proposal directly benefits NOAA (if it will, it should be supported by a procurement contract, not a financial assistance award which cannot be funded under this announcement, as provided in 31 U.S.C. 6303). Applications not passing this initial review will not be considered further for funding through this BAA. NOAA will evaluate proposal(s) that are eligible that comply with all the requirements, under this BAA individually (i.e., proposals will be not compared to each other). A merit review will be conducted by mail reviewers and/or peer panel reviewers. Each reviewer will individually evaluate the proposal(s) using the evaluation criteria provided above. A minimum of three merit reviewers per proposal is required. The reviewers may be any combination of Federal and/or non-federal personnel. The proposal(s) will be individually scored (i.e., a consensus is not reached) unless all reviewers are Federal employees. If all of the reviewers are Federal employees, the program officer has the discretion to authorize a score based on consensus. NOAA selects evaluators on the basis of their professional qualifications and expertise as related to the unique characteristics of the proposal. The NOAA Program Officer will assess the evaluations and make a fund or do-not-fund recommendation to the Selecting Official based on the evaluations of the reviewers. Any application considered for funding may be required to address the issues raised in the evaluation of the proposal by the reviewers, Program Officer, Selecting Official, and/or Grants Officer before an award is issued. Applications not selected for funding in FY2008 or FY2009 may be considered for funding from FY2010 funds but may be, in response to NOAA's request, required to revalidate the terms of the original application or resubmit in the next BAA cycle if one is published for FY2010. The Program Officer, Selecting Official and/or Grants Officer may negotiate the final funding level of the proposal with the intended applicant. The Selecting Official makes the final recommendation for award to the NOAA Grants Officer who is authorized to commit the Federal Government and obligate the funds.

INTERGOVERNMENTAL REVIEW: Applications submitted under this notice may be subject to Executive Order 12372, “Intergovernmental Review of Federal Programs.” Refer to the appropriate CFDA number listed on your application for the applicability of this E.O. to your proposal.

LIMITATION OF LIABILITY: In no event will NOAA or the Department of Commerce be responsible for proposal preparation costs if these proposed activities fail to receive funding or are cancelled because of other agency priorities. Publication of this announcement does not oblige NOAA to award any specific project or to obligate any available funds.

NATIONAL ENVIRONMENTAL POLICY ACT (NEPA): NOAA must analyze the potential environmental impacts, as required by the National Environmental Policy Act (NEPA), for applicant projects or proposals which are seeking NOAA federal funding opportunities. Detailed information on NOAA compliance with NEPA can be found at the following NOAA NEPA website: http://www.nepa.noaa.gov/ , including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

THE DEPARTMENT OF COMMERCE PRE-AWARD NOTIFICATION REQUIREMENTS FOR GRANTS AND COOPERATIVE AGREEMENTS: The Department of Commerce Pre-Award Notification Requirements for Grants and Cooperative Agreements contained in the Federal Register notice of February 11, 2008 (73 FR 7696), are applicable to this solicitation.

PAPERWORK REDUCTION ACT: This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001. Notwithstanding any other provision of law, no person is required to, nor shall a person be subject to a penalty for failure to comply with, a collection of information subject to the requirements of the PRA unless that collection of information displays a currently valid OMB control number.

EXECUTIVE ORDER 12866: This notice has been determined to be not significant for purposes of Executive Order 12866.

EXECUTIVE ORDER 13132 (FEDERALISM): It has been determined that this notice does not contain policies with Federalism implications as that term is defined in Executive Order 13132.

ADMINISTRATIVE PROCEDURE ACT/REGULATORY FLEXIBILITY ACT: Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: April 16, 2008.
Helen Hurcombe
Director, Acquisition and Grants Office, National Oceanic and Atmospheric Administration.

[FR Doc. E8-8581 Filed 4-18-08; 8:45 am]

BILLING CODE 3510-12-S